DEPARTMENT OF COMMERCE

National Oceanic and Atmospheric Administration

[I.D. 042406C]

Marine Mammals; File No. 782-1812

AGENCY: National Marine Fisheries Service (NMFS), National Oceanic and Atmospheric Administration (NOAA), Commerce.

ACTION: Notice; issuance of permit.

SUMMARY: Notice is hereby given that NMFS, National Marine Mammal Laboratory (Principle Investigator: Dr. Robert DeLong), Alaska Fisheries Science Center, Seattle, WA has been issued a permit to conduct research on California sea lions (Zalophus californianus), northern elephant seals (Mirounga angustirostris), harbor seals (Phoca vitulina), and northern fur seals (Callorhinus ursinus) on the southern California Channel Islands, surrounding waters, and at haul-out sites along the coast of California, Oregon, and Washington.

ADDRESSES: The permit and related documents are available for review upon written request or by appointment in the following office(s):

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426; and

Southwest Region, NMFS, 501 West Ocean Blvd., Suite 4200, Long Beach, CA 90802-4213; phone (562)980-4001; fax (562)980-4018.

FOR FURTHER INFORMATION CONTACT: Andrew Wright or Dr. Tammy Adams, (301)713-2289.

SUPPLEMENTARY INFORMATION: On March 9, 2006, notice was published in the Federal Register (71 FR 12185) that a request for a scientific research permit to take the species identified above had been submitted by the above-named organization. The requested permit has been issued under the authority of the Marine Mammal Protection Act of 1972, as amended (16 U.S.C. 1361 et seq.), and the Regulations Governing the Taking and Importing of Marine Mammals (50 CFR part 216).

The permit authorizes the holder to conduct five research projects related to population and health assessment and studies of the ecology of and disease in these pinniped species. The permit authorizes the holder to harass, capture, sample (blood and various tissues), mark (by dye, flipper tag, neoprene patch, and hot brand), and attach instruments to individuals and to inject California sea lion and northern fur seal pups with either an antihelminthic treatment or placebo. The permit also authorizes NMML a limited number of mortalities of each species per year incidental to the research. Please refer to the tables in the permit for details of the numbers of marine mammals that are authorized to be taken during the course of the various research activities. The permit will expire on April 30, 2011.

In compliance with the National Environmental Policy Act of 1969 (42 U.S.C. 4321 et seq.), a final determination has been made that the activity proposed is categorically excluded from the requirement to prepare an environmental assessment or environmental impact statement.

Dated: May 9, 2006.
Stephen L. Leathery,
Chief, Permits, Conservation and Education Division, Office of Protected Resources, National Marine Fisheries Service.

[FR Doc. E6-7356 Filed 5-12-06; 8:45 am]

BILLING CODE 3510-22-S